COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List products and services to be furnished by nonprofit agencies employing persons who are blind or have other severe disabilities, and to delete products previously furnished by such agencies.

Comments Must Be Received on or Before: April 13, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to the Procurement List for production by the nonprofit agencies listed:

Products

Product/NSN: Casters, Rigid and Swivel,

5340-05-000-5758,

5340-05-000-5759.

NPA: Rauch Rehabilitation and Developmental Services, Inc., New Albany, Indiana.

Contract Activity: U.S. Postal Service, Topeka, Kansas.

Services

Service Type/Location: Administrative, Mail/Messenger and Warehouse Service, Federal Highway Administration, Eastern Federal Lands Highway Division, Sterling, Virginia.

NPA: Anchor Mental Health Association (Anchor Services Workshop), Washington, DC.

Contract Activity: Federal Highway Administration, Sterling, Virginia.

Service Type/Location: Landscaping Service, Department of Justice, Bureau of Prisons, Washington, DC.

NPA: Davis Memorial Goodwill Industries, Washington, DC.

Contract Activity: Department of Justice, Bureau of Prisons, Washington, DC.

Deletions

I certify that the following action will not have a significant impact on a substantial number of small entities. The major factors considered for this certification were:

1. If approved, the action will not result in any additional reporting, recordkeeping or other compliance requirements for small entities.

2. If approved, the action will result in authorizing small entities to furnish the products to the Government.

3. There are no known regulatory alternatives which would accomplish the objectives of the Javits-Wagner-O'Day Act (41 U.S.C. 46-48c) in connection with the products proposed for deletion from the Procurement List.

The following products are proposed for deletion from the Procurement List:

Products

Product/NSN: Case, Plotting Board, 1220-01-055-6137.

NPA: North Bay Rehabilitation Services, Inc., Rohnert Park, California.

Contract Activity: Department of the Army, Rock Island, Illinois.

Product/NSN: Patient Utility Kit, 6530-01-166-3499.

NPA: CCI Enterprises, Inc., Milwaukie, Oregon.

Contract Activity: Defense Supply Center Philadelphia, Philadelphia, PA.

Sheryl D. Kennerly,
Director, Information Management.

[FR Doc. 03-6169 Filed 3-13-03; 8:45 am]

BILLING CODE 6353-01-P